DEPARTMENT OF TRANSPORTATION

National Highway Traffic Safety Administration

[Docket No. NHTSA-2005-23419; Notice 1]

Optronics Products Company, Inc., Receipt of Petition for Decision of Inconsequential Noncompliance

Optronics Products Company, Inc. (Optronics) has determined that certain combination lamps that it produced in 2002 do not comply with 49 CFR 571.108, Federal Motor Vehicle Safety Standard (FMVSS) No. 108, “Lamps, reflective devices, and associated equipment.” Optronics has filed an appropriate report pursuant to 49 CFR part 573, “Defect and Noncompliance Reports.”

Pursuant to 49 U.S.C. 30118(d) and 30120(h), Optronics has petitioned for an exemption from the notification and remedy requirements of 49 U.S.C. Chapter 301 on the basis that this noncompliance is inconsequential to motor vehicle safety.

This notice of receipt of Optronics' petition is published under 49 U.S.C. 30118 and 30120 and does not represent any agency decision or other exercise of judgment concerning the merits of the petition.

Affected are a total of approximately 6000 4-inch round LED 3 function combination lamps, part number STL45RK, produced in November 2002 and sold as replacement equipment for trailers less than 80 inches in overall width. NHTSA testing of this model showed that three out of the four tested lamps failed to meet the minimum photometry requirements for a 3-lighted section lamp. In particular, the lamps failed to meet the minimum zone 3 photometry requirements for the taillamp, stop lamp, and turn signal lamp. The FMVSS No. 108 minimum photometry requirement for zone 3 of these functions is 24 cd, 520 cd, and 520 cd, respectively. The lamps failed to meet the zonal requirements by a margin of 7% to 28% for the taillamp, and 4% to 18% for the stop and turn signal lamps.

Optronics believes that the noncompliance is inconsequential to motor vehicle safety and that no corrective action is warranted. Optronics states that, although the lamps noncomply with the requirements for a 3-lighted section lamp, they would meet or exceed the light output requirements if the lamps were tested to the requirements of “an incandescent light of the same fit, form, and function.”

Optronics asserts that “[h]olding a 4-inch LED light to a higher standard than a 4-inch incandescent light is the result of definitions in the regulations and is not based on the relative safety of one light versus another.” The petitioner further states,

[W]e believe that the lights' failure under the regulations is a technical issue and not a substantive one * * *. Consumers and Company's (sic) should not be required to go through a product recall on a technicality. What is important here is the safety of the consumer. We believe that the data in this filing show that the lights are as safe as any incandescent on the road.

Optronics states that there have been no accidents, injuries, fatalities, or warranty claims related to this noncompliance.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: February 13, 2006.

Authority: 49 U.S.C. 30118, 30120: delegations of authority at CFR 1.50 and 501.8.

Issued on: January 9, 2006.
Daniel C. Smith,
Associate Administrator for Enforcement.

[FR Doc. E6-234 Filed 1-11-06; 8:45 am]

BILLING CODE 4910-59-P